DEPARTMENT OF COMMERCE

Foreign-Trade Zones Board

[B-78-2021]

Foreign-Trade Zone (FTZ) 18—San Jose, California Notification of Proposed Production Activity Innovusion, Inc. (Light Detection and Ranging Systems) Sunnyvale, California

Innovusion, Inc. (Innovusion) submitted a notification of proposed production activity to the FTZ Board (the Board) for its facility in Sunnyvale, California under FTZ 18. The notification conforming to the requirements of the Board's regulations (15 CFR 400.22) was received on November 12, 2021.

Pursuant to 15 CFR 400.14(b), FTZ production activity would be limited to the specific foreign-status material(s)/component(s) and specific finished product(s) described in the submitted notification (summarized below) and subsequently authorized by the Board. The benefits that may stem from conducting production activity under FTZ procedures are explained in the background section of the Board's website—accessible via www.trade.gov/ftz.

The proposed finished products include light detection and ranging systems (duty rate is duty-free).

The proposed foreign-status materials and components include: Stainless steel or non-extrusion aluminum housings, brackets, mounts, baffles, spacers, clamps, rings, bushings, shields, covers; unground ball bearings; cables and wires with connectors; encoders; electronic integrated circuits; fiber lasers; neodymium rare earth block magnets; brushless electric motors and generators; O-rings; optical fiber cables and cable bundles; optical transceivers; printed circuit board splices and couplings; populated printed circuit board assemblies; stators and rotors for motors; transmission shafts; tempered glass windows; and, multi-faceted mirror mounted on mechanical bases (duty rate ranges from duty-free to 9.0%). The request indicates that certain materials/components are subject to duties under Section 301 of the Trade Act of 1974 (Section 301), depending on the country of origin. The applicable Section 301 decisions require subject merchandise to be admitted to FTZs in privileged foreign status (19 CFR 146.41).

Public comment is invited from interested parties. Submissions shall be addressed to the Board's Executive Secretary and sent to: ftz@trade.gov. The closing period for their receipt is January 3, 2022.

A copy of the notification will be available for public inspection in the “Online FTZ Information System” section of the Board's website.

For further information, contact Juanita Chen at juanita.chen@trade.gov.

Dated: November 18, 2021.
Camille R. Evans,
Acting Executive Secretary.

[FR Doc. 2021-25656 Filed 11-23-21; 8:45 am]

BILLING CODE 3510-DS-P